DEPARTMENT OF ENERGY

Federal Energy Regulatory Commission

[Project No. 2467-020]

Pacific Gas and Electric Company; Notice Extending Deadline To File Study Requests and Comments on Pre-Application Document and Scoping Document

On March 24, 2014 the Commission issued a notice of application accepted for filing, soliciting motions to intervene and protests, ready for environmental analysis, and soliciting comments, recommendations, preliminary terms and conditions, and preliminary fishway prescriptions for the Merced Falls Hydroelectric Project.

The May 23, 2014 deadline for filing comments, recommendations, preliminary terms and conditions, and preliminary fishway prescriptions is extended to July 22, 2014.

Dated: May 7, 2014.
Kimberly D. Bose,
Secretary.

[FR Doc. 2014-11015 Filed 5-13-14; 8:45 am]

BILLING CODE 6717-01-P